DEPARTMENT OF ENERGY

Electricity Advisory Board; Notice of Publication of Draft Transmission Grid Solutions Subcommittee Report

AGENCY: Department of Energy.

ACTION: Notice of publication of draft report and request for comments.

SUMMARY: The Office of the Secretary of Energy Advisory Board (AB-1) on behalf of the Electricity Advisory Board (EAB) requests comments on the Electricity Advisory Board's “Draft Report” by the Transmission Grid Solutions Subcommittee. The Draft Report provides a series of recommendations to the Electricity Advisory Board and the Secretary of Energy on ways to improve the physical and financial state of our nation's transmission electric transmission grid infrastructure to ensure the most reliable, economically efficient and environmentally sound delivery of electric power to consumers and businesses at affordable prices. The Draft Report was organized around the EAB Transmission Grid Solutions Subcommittee's independent external review of the Department of Energy's study of the nation's electricity transmission system entitled National Transmission Grid Study (May 2002). The views and recommendations offered in this Draft Report reflect the consensus of the Subcommittee members only. As with any consensus product, the views of any individual member of the subcommittee may differ slightly from the specific detailed recommendation contained in the Draft Report. This Draft Report is not a Department of Energy or Administration document and will not be transmitted officially to the Secretary of Energy without the consideration of any public comments received and the approval of the Electricity Advisory Board.

The EAB's Transmission Grid Solutions Subcommittee has posted its Draft Report on its Web site, located at http://www.eab.energy.gov.

DATES: To ensure the consideration of your comments by the Department of Energy's Electricity Advisory Board before the Board considers this Draft Report for approval and submission to the Secretary of Energy, comments must be submitted in writing and received by the Office of the Secretary of Energy Advisory Board (AB-1) no later than 5 p.m. Eastern Daylight Savings Time August 30, 2002. The date and location of the next open meeting of the Electricity Advisory Board, where the Transmission Grid Solutions Subcommittee Draft Report will be reviewed, will be announced in a separate Federal Register Notice.

ADDRESSES: Comments on this Draft Report should be addressed to: Dr. Craig R. Reed, Designated Federal Official, Electricity Advisory Board, AB-1/Forrestal Building, U.S. Department of Energy, 1000 Independence Avenue, SW., Washington, DC 20585.

You may also submit comments by facsimile to (202) 586-6279 or by e-mail to lisa.epifani@hq.doe.gov.

FOR FURTHER INFORMATION CONTACT: Dr. Craig R. Reed, Executive Director, or Ms. Lisa Epifani, EAB Staff Director, Secretary of Energy Advisory Board (AB-1), U.S. Department of Energy, 1000 Independence Avenue, SW., Washington, DC 20585, (202) 586-7092 or (202) 586-6279 (fax).

SUPPLEMENTARY INFORMATION: The Electricity Advisory Board (EAB) was chartered to provide the Secretary of Energy with essential independent advice and recommendations on electricity policy issues of importance to the Department of Energy. The Electricity Advisory Board is to provide timely, balanced, and authoritative advice to the Secretary of Energy on the Department's electricity programs; current and future capacity of the electricity system; issues related to production, reliability and utility restructuring; and coordination between the Department of Energy and state and regional officials and the private sector on matters affecting electricity supply and reliability.

Public Participation

The Electricity Advisory Board welcomes public comment on the Draft Report of the EAB's Transmission Grid Solutions Subcommittee. The Draft Report is being circulated for public review and comment in advance of its final review by the full Board in an effort to provide members of the public and interested parties with an opportunity to submit meaningful comment to the Board in advance of their review of the Draft Report's findings and recommendations. Members of the public and interested parties will also have an opportunity to comment on this Draft Report during the public comment period of the next meeting of the Electricity Advisory Board.

Issued at Washington, DC, on August 14, 2002.
Rachel M. Samuel,
Deputy Advisory Committee Management Officer.

[FR Doc. 02-20970 Filed 8-16-02; 8:45 am]

BILLING CODE 6450-01-P